DEPARTMENT OF HOUSING AND URBAN DEVELOPMENT

[Docket No. FR-4801-N-01]

Notice of Funding Availability for HOPE VI Demolition Grants Fiscal Year 2002

AGENCY: Office of Assistant Secretary for Public and Indian Housing, HUD.

ACTION: Notice of Funding Availability (NOFA).

SUMMARY: This NOFA announces the availability of approximately $ 40 million in Fiscal Year (FY) 2002 funds for HOPE VI Demolition Grants.

I. Program Overview

(A) Purpose of the Program. The purpose of HOPE VI Demolition grants is to assist public housing agencies (PHAs) to demolish severely distressed public housing and provide relocation and other supportive services for residents.

(B) Available Funds. Approximately $40 million, in accordance with Section II of this NOFA, below.

(C) Eligible Applicants. PHAs that operate severely distressed public housing. PHAs that only administer the Housing Choice Voucher Program, Tribal Housing Authorities and Tribally Designated Housing Entities are ineligible to apply.

(D) Application Deadline. Demolition grant applications are due on June 3, 2003, as described in Section IV of this NOFA.

(E) Authority.

(1) The funding authority for HOPE VI Demolition grants under this HOPE VI NOFA is provided by the FY 2002 Department of Veterans Affairs and Housing and Urban Development and Independent Agencies Appropriations Act, 2002 (Public Law 107-73, approved on November 26, 2001) (FY 2002 HUD Appropriations Act) under the heading “Revitalization of Severely Distressed Public Housing (HOPE VI).” The FY 2002 HUD Appropriations Act provides that these HOPE VI funds “remain available until September 30, 2003.”

(2) The program authority for the HOPE VI Program is section 24 of the United States Housing Act of 1937 (42 U.S.C. 1437v) (the 1937 Act), as added by section 535 of the Quality Housing and Work Responsibility Act of 1998 (Public Law 105-276, 112 Stat. 2461, approved October 21, 1998) (QHWRA).

II. Allocation of HOPE VI Funds

Type of assistance | Allocation of funds (approximate) | Funds available for award in this HOPE VI demolition NOFA (approximate)
Revitalization Grants | $492,485,000 |
Demolition Grants | 40,000,000 | $40,000,000
Neighborhood Networks | 5,000,000 |
Technical Assistance | 6,250,000 |
Housing Choice Voucher Assistance | 30,000,000 |
Total | $573,735,000 | $40,000,000

(A) Revitalization Grants. Approximately $492.5 million of the FY 2002 HOPE VI appropriation has been allocated to fund HOPE VI Revitalization grants and will be awarded in accordance with a separate HOPE VI Revitalization Grants NOFA.

(B) Demolition Grants. Approximately $40 million of the FY 2002 HOPE VI appropriation has been allocated to fund HOPE VI Demolition grants and will be awarded in accordance with this HOPE VI Demolition Grants NOFA.

(C) Neighborhood Networks. The FY 2002 appropriation for HOPE VI allocated $5 million for a Neighborhood Networks initiative for activities authorized in section 24(d)(1)(G) of the 1937 Act, which provides for the establishment and operation of computer centers in public housing for the purpose of enhancing the self-sufficiency, employability, and economic self-reliance of public housing residents by providing them with onsite computer access and training resources. The availability of these funds will be announced in a separate NOFA, and, in accordance with the appropriation, they will be awarded to PHAs on a competitive basis.

(D) Technical Assistance. The FY 2002 appropriation for HOPE VI allocated $6.25 million to provide technical assistance and contract expertise in the HOPE VI Program, to be provided directly by grants, contracts, or cooperative agreements, including training and cost of necessary travel for participants in such training, by or to officials and employees of HUD and of PHAs and to residents. The Office of Public Housing Investments will administer technical assistance funds.

(E) Housing Choice Voucher Program. The cost of assistance under the Housing Choice Voucher Program that will be provided to FY 2002 HOPE VI Revitalization and Demolition grantees will come from the FY 2002 HOPE VI appropriation. Approximately $30 million will be allocated for such assistance. If this amount is more than the amount necessary, the remaining funds will be made available for obligation before September 30, 2003.

(1) If you anticipate that you will need Housing Choice Voucher 8 assistance in order to carry out necessary relocation in conjunction with proposed demolition during FY 2003, your application must include the number of vouchers you will need, both in total and in FY 2003, and a Housing Choice Voucher application.

(2) If you will need Housing Choice Voucher assistance in fiscal years beyond FY 2003 for demolition that is being carried out in phases, or if you have unused vouchers that are available to be used for HOPE VI-related relocation in FY 2003 but will need more for subsequent years, you must request additional vouchers only as needed during the appropriate fiscal years.

(3) Housing Choice Voucher assistance cannot be awarded or used to relocate residents from units that are to be demolished until HUD has approved those units for demolition.

(4) If you have previously received Housing Choice Voucher assistance to relocate residents from the targeted severely distressed units, you may still apply for a HOPE VI Demolition Grant to demolish the units without replacement.

(5) You may request Housing Choice Voucher assistance for all units covered under a HOPE VI Demolition application to relocate residents from units that will not be replaced with hard units.

(F) Funding of Previously Nonselected Applications. Notwithstanding Section III(E)(4) of the General Section of the FY 2001 SuperNOFA, HUD will not use any funds from this HOPE VI Demolition NOFA to fund any previous-submitted, nonselected HOPE VI Demolition applications.

III. Application Thresholds

(A) Each required element of a HOPE VI Demolition grant application is a threshold requirement. Your application will not be eligible for funding unless each requirement listed in this NOFA is included in your application. HUD will give you the opportunity to submit any missing information up to the application deadline date, as provided in Section XI(C) of this NOFA.

IV. Application Submission Information

(A) Application.

(1) The HOPE VI Demolition Grant Application (Application) is appended to this NOFA and contains the required elements of the program. It provides explicit, specific instructions as to the requirements for your HOPE VI Demolition application. Your application must conform to the requirements of this HOPE VI Demolition NOFA and follow the format described in the Application. The Application is designed to guide you through the application process and ensure that your application addresses all requirements of this NOFA. Please note that if there is a discrepancy between information provided in the Application and the information provided in this NOFA, the information in the NOFA prevails.

(2) HUD will mail this NOFA, including the Application, to every eligible PHA. In addition, you may also obtain an Application from the HOPE VI Information Clearinghouse at 1-866-242-HOPE (1-866-242-4673). Persons with hearing or speech impairments may call the Clearinghouse's TTY number at 1-800-HUD-2209. When requesting an Application, please be sure to request the HOPE VI Demolition Application, and provide your name, address (including zip code), and telephone number (including area code). The Application also will be available on the HOPE VI Home Page http://www.hud.gov/hopevi and the HUD Home Page http://www.hud.gov/grants.

(B) Application Due Date. Demolition grant applications are due at HUD Headquarters on or before 5:15 p.m., Eastern Time, on June 3, 2003. This application deadline is firm. Your application must arrive at HUD Headquarters by 5:15 p.m., Eastern Time, on the due date. You should submit your application early to avoid the risk of loss of eligibility brought about by unanticipated delays or other delivery-related problems.

(C) Application Delivery.

(1) Send one copy of your completed application to Mr. Milan Ozdinec, Deputy Assistant Secretary for Public Housing Investments, Department of Housing and Urban Development, 451 Seventh Street, SW., Room 4130, Washington, DC 20410. Please make sure that you note the room number.

(2) Applications Sent by Overnight Delivery. It is strongly recommended that you send your application by an overnight carrier at least two days before the application due date. You should use only DHL, Falcon Carrier, FedEx, United Parcel Service (UPS), or the U.S. Postal Service, as they are the only carriers accepted into the HUD building without an escort. Delivery by these services must be made during HUD Headquarters business hours, between 8:45 a.m. and 5:15 p.m., Eastern Time, Monday through Friday. If these companies do not serve your area, you must submit your application via the U.S. Postal Service.

(3) No Hand Carried Applications. Due to new security measures, HUD will no longer accept hand carried applications.

(4) You must send one copy of your application to your HUD Field Office. The application sent to Headquarters will be the one that must meet the deadline. If the Field Office receives an application on time, but Headquarters does not, it will not be considered.

(5) HUD will not accept for review and evaluation any applications sent by facsimile (fax). Also do not submit resumes or videos.

(D) Technical Assistance.

(1) Before the application due date, HUD staff will be available to provide you with general guidance and technical assistance. HUD staff, however, is not permitted to assist in preparing your application. If you have a question or need clarification, you may call, fax, or write Mr. Milan Ozdinec, Deputy Assistant Secretary for Public Housing Investments, Department of Housing and Urban Development, 451 Seventh Street, SW., Room 4130, Washington, DC 20410; telephone (202) 401-8812; fax (202) 401-2370 (these are not toll free numbers). Persons with hearing or speech impairments may access this number via TTY by calling the Federal Information Relay Service at (800) 877-8339.

(2) Frequently asked questions, clarifications, and any technical amendments will be posted on the HOPE VI Web site at http://www.hud.gov/hopevi. In addition, all materials related to this NOFA, including the HOPE VI Demolition Application will be posted to this site. Any technical corrections will also be published in the Federal Register. Applicants are responsible for monitoring these sites during the application preparation period.

V. Eligible Demolition Activities

(A) Relocation, including reasonable moving expenses, for residents displaced as a result of the demolition of the project. See Section IX of this NOFA for relocation requirements.

(B) Demolition of dwelling units in buildings, in whole or in part, including the abatement of environmentally hazardous materials such as asbestos, in accordance with section 18 of the 1937 Act as amended.

(C) Demolition of nondwelling structures, if such demolition is directly related to the demolition of severely distressed dwelling units to be demolished with funds from the HOPE VI Demolition Grant.

(D) Restoration of the site to a “Greenfield,” a clean site by removing all demolished materials, filling in the site, and establishing a lawn. No additional improvements, such as constructing new curbs and gutters, installing playground equipment, installing permanent fences, or planting gardens, may be paid for with HOPE VI Demolition grant funds.

(E) In the case of partial demolition of a site, minimal site restoration after demolition and subsequent site improvements to benefit the remaining portion of the project in order to provide project accessibility or to make the site more marketable.

(F) Reasonable costs for administration, planning, technical assistance, and fees and costs that are deemed to be incremental costs of carrying out the demolition as specifically approved by HUD.

VI. Demolition Grant Limitations

(A) Grant Limitations.

(1) Demolition. You may request up to $6,000 per unit for demolition and other eligible related costs.

(2) Relocation.

(a) You may request up to $3,000 in relocation costs for each unit that is occupied as of the date you submit your HOPE VI Demolition grant application.

(b) At least half of the funds requested for relocation must be used to provide mobility counseling and other services to promote the self-sufficiency of displaced residents.

(3) Nondwelling Structures.

(a) You may request reasonable amounts to pay for the demolition of significant nondwelling structures related to the demolition of dwelling units. These costs must be included as part of an application for funding of demolition of public housing units; you may not apply for them separately. Examples of such costs include community centers and heating plants.

(b) Such costs must be justified and verified by an engineer or architect licensed by his or her state licensing board who is not an employee of the housing authority or the city. The engineer or architect must provide his or her license number and state of registration. A Nondwelling Structures Cost Certification is included in the HOPE VI Demolition Grant Application.

(B) HUD recognizes that the HOPE VI grant may not cover the total costs of relocation, abatement, and demolition in all cases and that you may have to provide additional funding from other sources.

(C) You may not use HOPE VI Demolition Grant funds to pay for any demolition or related activities carried out before the date of the letter announcing the award of the HOPE VI Grant.

VII. Site and Unit Requirements

(A) Demolition Site and Unit Application Guidelines.

(1) You may submit up to five HOPE VI Demolition grant applications that target a total of no more than 2,500 severely distressed public housing units.

(2) You may target units in only one public housing project (i.e. units that have the same project number) per application.

(3) You may submit more than one application targeting units in a single housing project.

(4) You may target as many or as few units per application as you wish.

(5) Unless otherwise indicated, the Executive Director of the applicant PHA, or his or her designate, must sign each form or certification, whether part of an attachment or a Standard Certification. Signatures need not be original.

(B) Separability. In accordance with section 24(j)(2)(A)(v) of the 1937 Act, if you propose to target only individual buildings of a project for demolition, you must:

(1) Demonstrate to HUD's satisfaction that the severely distressed public housing is sufficiently separated from the remainder of the project of which the building is part to make demolition of the building feasible, and

(2) Demonstrate that the plan for the demolished portion will provide defensible space for the occupants of the remaining building(s). Separations may include a road, berm, catch basin, or other recognized neighborhood distinction.

(C) Appropriateness of Proposal. In accordance with section 24(e)(1) of the 1937 Act, each application must demonstrate the appropriateness of the proposal in the context of the local housing market relative to other alternatives. You must briefly discuss other possible alternatives to your proposal, and explain why your plan is more appropriate. This is a statutory requirement as well as an application threshold.

Examples of alternative proposals may include:

(1) Rebuilding on the site and/or building off-site replacement public housing in isolated, non-residential, or otherwise inappropriate areas.

(2) Proposing a range of incomes, housing types (rental vs. homeownership, market rate vs. public housing, townhouse vs. detached house, etc.), or costs that cannot be supported by a market analysis.

(3) Targeting the land for something other than its highest and best use, given market conditions and the social goals of your agency.

VIII. Severe Distress

(A) Severe Distress.

(1) The targeted public housing project or building in a project must be severely distressed. In accordance with section 24(j)(2) of the 1937 Act, the term “severely distressed public housing” means a public housing project (or building in a project) that:

(a) Requires major redesign, reconstruction or redevelopment, or partial or total demolition, to correct serious deficiencies in the original design (including inappropriately high population density), deferred maintenance, physical deterioration or obsolescence of major systems, and other deficiencies in the physical plant of the project; and

(b) Is a significant contributing factor to the physical decline of, and disinvestment by, public and private entities in the surrounding neighborhood; and

(c)(i) Is occupied predominantly by families who are very low-income families with children, are unemployed, and dependent on various forms of public assistance; or

(ii) Has high rates of vandalism and criminal activity (including drug-related criminal activity) in comparison to other housing in the area; and

(d) Cannot be revitalized through assistance under other programs, such as the Capital and Operating Funds Programs for public housing under the Act, or the programs under sections 9 and 14 of the 1937 Act (as in effect before the effective date under section 503(a) of QHWRA) because of cost constraints and inadequacy of available amounts.

(B) Demonstration of Severe Distress. Units will be considered severely distressed if:

(1) They are included in a HUD-approved Section 202 Mandatory Conversion Plan. The Section 202 Conversion Plan must be approved by HUD on or before the HOPE VI Demolition grant application due date;

(2)(a) They are included in a Section 202 Mandatory Conversion Plan that you have submitted to HUD on or before the HOPE VI Demolition grant application deadline date, or

(b) They are, in HUD's sole determination under section 537(c) of QHWRA, subject to the removal requirements of 24 CFR part 971 and can be expected to be demolished in accordance with the time schedule required by Section IV(F)(1) of this NOFA;

(3) They are included in a HUD-approved application for demolition that was developed in accordance with section 18 of the 1937 Act, as amended (“section 18 demolition application”); or

(4) They are included in a HUD-approved Revitalization Plan as part of a HOPE VI Revitalization grant.

IX. Relocation

(A) General. You must provide suitable, decent, safe, and sanitary housing for each family required to relocate as a result of demolition activities. The relocation requirements of the Uniform Relocation Assistance and Real Property Acquisition Policies Act of 1970 (42 U.S.C. 4201-4655) (URA) and the implementing government-wide regulations at 49 CFR part 24 cover any person who moves permanently from real property or moves personal property from real property directly because of demolition for an activity undertaken with HUD assistance.

CPD Notice 02-08, entitled “Guidance on the Application of the Uniform Relocation Assistance and Real Property Acquisition Act of 1970 (URA), as Amended, in HOPE VI Projects,” outlines the URA requirements and describes the framework for operating its relocation assistance activities connected with HOPE VI revitalization and demolition activities. Applicants should use this document as a guide for formulating and implementing their HOPE VI Relocation Plans.

(B) Standard Relocation Requirements. You must carry out relocation activities in compliance with a relocation plan that conforms to the following statutory and regulatory requirements, as applicable:

(1) Relocation as a result of demolition approved by a section 18 demolition application is subject to the URA and section 18 of the 1937 Act.

(2) Relocation as a result of demolition approved as part of a Section 202 Mandatory Conversion Plan is subject to the URA.

(3) Relocation as a result of demolition approved as part of a HOPE VI Revitalization Plan is subject to the URA.

(C) Relocation Guidelines.

(1) Each applicant requesting funds for relocation must complete, as a condition for receipt of HOPE VI Demolition Grant funds, a HOPE VI Relocation Plan. In your application, you must provide a certification that you have completed a HOPE VI Relocation Plan, and that it conforms to the URA requirements described above.

(2) You are encouraged to involve HUD-approved housing counseling agencies, including faith-based, non-profit and/or other organizations and/or individuals in the community to which relocatees choose to move, in order to ease the transition and minimize the impact on the neighborhood.

(3) If applicable, you are encouraged to work with surrounding jurisdictions to assure a smooth transition if residents choose to move from your jurisdiction to the surrounding area.

(4) No relocation costs incurred before the award of the HOPE VI Grant may be reimbursed.

X. Fair Housing and Equal Opportunity

(A) Compliance with Fair Housing and Civil Rights Laws.

(1) All applicants and their subrecipients must comply with all Fair Housing and Civil Rights laws, statutes, regulations, and Executive Orders as enumerated in 24 CFR 5.105(a) enumerated at 24 CFR 1003.601, as applicable.

(2) If you, the applicant:

(i) Have been charged with a systemic violation of the Fair Housing Act alleging ongoing discrimination;

(ii) Are a defendant in a Fair Housing Act lawsuit filed by the Department of Justice alleging an on-going pattern or practice of discrimination; or,

(iii) Have received a letter of non-compliance findings, identifying on-going or systemic noncompliance, under Title VI of the Civil Rights Act, Section 504 of the Rehabilitation Act, or section 109 of the Housing and Community Development Act, and if the charge, lawsuit, or letter of findings has not been resolved to HUD's satisfaction before the application deadline stated in the NOFA, you may not apply for assistance under this NOFA. HUD will not rate and rank your application. HUD's decision regarding whether a charge, lawsuit, or a letter of findings has been satisfactorily resolved will be based upon whether appropriate actions have been taken to address allegations of on-going discrimination in the policies or practices involved in the charge, lawsuit, or letter of findings. Examples of actions that may be taken prior to the application deadline to resolve the charge, lawsuit, or letter of findings, include but are not limited to:

(a) a voluntary compliance agreement signed by all parties in response to the letter of findings;

(b) a HUD-approved conciliation agreement signed by all parties;

(c) a consent order or consent decree; or

(d) a judicial ruling or a HUD Administrative Law Judge's decision that exonerates the respondent of any allegations of discrimination.

(B) Desegregation Orders. You must be in full compliance with any desegregation or other court order and Voluntary Compliance Agreements related to Fair Housing (e.g., Title VI of the Civil Rights Act of 1964, the Fair Housing Act, and section 504 of the Rehabilitation Act of 1973) that affects your public housing program and that is in effect on the date of application submission.

(C) Additional Nondiscrimination Requirements. You and your subrecipients, must comply with:

(1) Title IX of the Education Amendments Act of 1972.

(2) The American with Disabilities Act of 1990 (42 U.S.C. 12101 et seq.)

(D) Ensuring the Participation of Disadvantaged Firms. The Department is committed to ensuring that small businesses, small disadvantaged businesses, minority firms, women's business enterprises, and labor surplus area firms participate fully in HUD's direct contracting and in contracting opportunities generated by HUD grant funds. Too often, these businesses still experience difficulty accessing information and successfully bidding on federal contracts. HUD regulations at 24 CFR 85.36(e) require recipients of assistance (grantees and subgrantees) to take all necessary affirmative steps in contracting for purchase of goods or services to assure that these disadvantaged firms are used when possible. Affirmative steps include:

(1) Placing disadvantaged firms on solicitation lists;

(2) Assuring that disadvantaged firms are solicited whenever they are potential sources;

(3) Dividing total requirements, when economically feasible, into smaller tasks or quantities to permit maximum participation by disadvantaged firms;

(4) Establishing delivery schedules, where the requirement permits, which encourage participation by disadvantaged firms;

(5) Using the services and assistance of the Small Business Administration and the Minority Business Development Agency of the Department of Commerce; and

(6) Requiring the prime contractor, if subcontracts are to be let, to take the affirmative steps listed in Sections (1) through (5) above.

(E) HOPE VI grantees must comply with section 3 of the Housing and Urban Development Act of 1968 (12 U.S.C. 1701u) (Economic Opportunities for Low and Very Low-Income Persons in Connection with Assisted Projects) and its implementing regulations at 24 CFR part 135. Information about section 3 can be found at HUD's section 3 Web site http://www.hud.gov/fhe/sec3over.html.

XI. Hope VI Demolition Grant Application Selection Process

(A) HOPE VI Demolition Grant Funding Categories. HUD will select HOPE VI Demolition grant applications on a first-come, first-served basis, by an application's Priority Group and Ordinal. HOPE VI Demolition grant applications are not rated.

(1) Eligible Units. Severely distressed public housing units to be demolished with HOPE VI Demolition grant funds must meet one of the criteria in the description of priority groups below.

(2) Priority Groups. You must identify each HOPE VI Demolition grant application by its appropriate Priority Group, as described below. Each application must target units of a single Priority Group; e.g., do not include Priority Group 1 units in the same application as Priority Group 2 units.

(a) Priority Group 1.

(i) Priority Group 1 applications target units included in an approved Section 202 Mandatory Conversion Plan. The Section 202 Conversion Plan must be approved by HUD on or before the HOPE VI Demolition grant application due date.

(ii) Units associated with a HOPE VI Revitalization grant are not eligible for this Priority Group. Every application that targets units associated with a HOPE VI Revitalization Grant is only eligible for Priority Group 4.

(b) Priority Group 2.

(i) Priority Group 2 applications:

a. Target units included in a Section 202 Mandatory Conversion Plan that you have submitted to HUD on or before the HOPE VI Demolition grant application deadline date, or

b. Target units that, in HUD's sole determination under section 537(c) of QHWRA, are subject to the removal requirements of 24 CFR part 971 and can be expected to be demolished in accordance with the time schedule required by Section XIII(A) of this NOFA.

(ii) If you submit a HOPE VI Demolition grant application for units that are targeted in a Section 202 Mandatory Conversion Plan that was submitted under 24 CFR part 971 but not yet approved (Priority Group 2), and HUD subsequently approves the Conversion Plan before the HOPE VI Demolition grant application deadline date, you may revise your application and it will be reclassified as Priority Group 1. HUD will change the original Ordinal to the Ordinal corresponding to the date that the revision was received.

(iii) If you submit a Section 202 Mandatory Conversion Plan but HUD determines that the targeted project does not qualify for conversion under 24 CFR part 971, your HOPE VI Demolition grant application will not be eligible for funding. If you intend to submit a Priority 1 or 2 application, discuss the project with your Field Office to ensure that it qualifies under the standards of 24 CFR part 971.

(iv) Units associated with a HOPE VI Revitalization grant are not eligible for this Priority Group. Every application that targets units associated with a HOPE VI Revitalization Grant is only eligible for Priority Group 4.

(c) Priority Group 3. Priority Group 3 applications target units that were included in a HUD-approved application for demolition that was developed in accordance with section 18 of the 1937 Act, as amended (“section 18 demolition application”).

(i) HUD must approve your section 18 demolition application on or before the HOPE VI Demolition grant application deadline. If your section 18 demolition application does not meet the statutory requirements of section 18, including the requirement for HUD Field Office approval of the Interim or PHA Plan as required by 24 CFR part 903, HUD will not approve the section 18 demolition application and your HOPE VI Demolition grant application will not be eligible for funding.

(ii) If you have submitted a section 18 demolition application to the SAC but it has not yet been approved by HUD when you submit your HOPE VI Demolition grant application, your HOPE VI application will not be considered complete and you will not receive an Ordinal unless and until your section 18 demolition application is approved on or before the HOPE VI Demolition Grant Application deadline.

(iii) If your section 18 demolition application is approved by HUD on June 2, 2003 or June 3, 2003 only, you are not required to submit your approval letter to HUD, and HUD will deem the approval letter to have been submitted in the application. In such a case, if your application is otherwise complete, your Ordinal will be the date that HUD approves your section 18 demolition application.

(iv) If HUD has previously approved your section 18 demolition application but HUD later rescinded the approval, your section 18 demolition application will not be considered approved by HUD and your HOPE VI Demolition grant application will not be eligible for funding.

(v) Units associated with a HOPE VI Revitalization grant are not eligible for this Priority Group. Every application that targets units associated with a HOPE VI Revitalization Grant is only eligible for Priority Group 4.

(d) Priority Group 4.

(i) Priority Group 4 applications target units that:

a. Were targeted for demolition in a previously-approved HOPE VI Revitalization application and the demolition has not yet been carried out; or

b. Were not originally targeted for demolition in a previously-approved HOPE VI Revitalization application but are located in the same project and at the same site that will be revitalized using an existing Revitalization grant, and have not yet been demolished.

(ii) The requested HOPE VI Demolition grant funds, in combination with the existing HOPE VI Revitalization grant funds, may not exceed the Total Development Cost (TDC)/Housing Cost Cap (HCC) limits.

a. If the Revitalization grant is below TDC/HCC, any dollars freed up as a result of the proposed additional demolition grant funds may be used for any development costs, up to the project's TDC/HCC limit.

b. If the Revitalization grant is below or at TDC/HCC, the dollars freed up from the proposed additional demolition grant funds may be used for the demolition of additional units or for Community Renewal costs such as Extraordinary Site Costs that fall outside of HCC.

(iii) If a Priority Group 4 HOPE VI Demolition application is selected for funding, HUD will approve the planned demolition:

a. In its approval of your Supplemental Submissions for the Revitalization grant;

b. By amending its approval of your Supplemental Submissions, if it has already been approved by HUD; or

c. By approving a section 18 demolition application, if you choose to submit one.

(B) Ordinals. Upon receipt, HUD will assign each HOPE VI Demolition grant application an Ordinal (i.e., ranking number) that reflects the date HUD Headquarters received the application. Ordinals correspond to business days, starting with the date HUD receives the first Demolition grant application and ending on the HOPE VI Demolition grant application deadline date. HUD will consider all applications received on the same date as received at the same time on that date, and those applications will all be assigned the same Ordinal.

(C) Demolition Screening.

(1) HUD will screen the application to ensure that it meets each HOPE VI threshold criterion listed in this NOFA.

(2) If HUD determines that an application is not eligible (e.g., the applicant is not a PHA, the units have already been demolished, etc.), HUD will not consider the application further and will immediately notify the applicant that the application has been rejected.

(3) If HUD determines that an applicant is eligible but the application is incomplete, within approximately two days of receipt of the application, HUD will contact the applicant in writing by fax (followed with a hard copy by mail) to request the missing information. Applicants whose applications are received by HUD on the same date, and who have missing items, will be notified by HUD of their missing items on the same day to ensure that all applicants have the same number of days to provide the missing information.

Please Note: This provision means that the nearer to the deadline date you submit your application, the less time you will have to correct any deficiencies, and if HUD receives your application on the deadline date and there is a deficiency, that application will not be eligible for funding. You are advised to submit your application as soon as possible, in the event that HUD identifies a deficiency that you need to correct.

(4) If HUD determines that the information you submit in response to a notification of deficiency is correct and completes the application, HUD will add to the application's Ordinal the number of days between notification of the deficiency and curing of the deficiency.

(5) If HUD determines that the information submitted does not make the application complete, HUD will notify you of the remaining deficiency. You will have the opportunity to submit information in response to notifications of deficiency until the HOPE VI Demolition grant application due date.

(6) If you do not submit the requested information by the HOPE VI Demolition grant deadline date, your application will be ineligible for funding.

(7) If a deficiency is cured on the same day the deficiency letter is sent, the application will add one Ordinal.

(D) Funding. HUD will award HOPE VI Demolition grants in the following order, based on fund availability.

(1) HUD will fund Priority Group 1 applications by Ordinal.

(2) If funds remain after HUD has funded all eligible Priority Group 1 applications, HUD will fund Priority Group 2 applications by Ordinal.

(3) If funds remain after HUD has funded all eligible Priority Group 2 applications, HUD will fund Priority Group 3 applications by Ordinal.

(4) If funds remain after HUD has funded all eligible Priority Group 4 applications, HUD will fund Priority Group 4 applications by Ordinal.

(5) At any stage, if there is more than one application with next Ordinal to be funded and there are insufficient funds to fund all of them, HUD will conduct a lottery among those applications to determine which application(s) will be funded.

(6) HUD reserves the right to partially fund the next eligible application if insufficient funds remain to fund the entire amount requested, and HUD determines that the funds available are adequate to carry out some significant demolition activities.

(7) If funds remain after all eligible HOPE VI Demolition grant applications have been funded or if the amount remaining is inadequate to feasibly fund the next eligible Demolition grant application, HUD reserves the right to:

(a) Reallocate unused funds to fund or supplement the next eligible HOPE VI Revitalization application(s), in rank order, or

(b) Carry over unused funds to the next fiscal year.

XII. Post Award Activities

(A) Notification of Funding Decisions. Because the HOPE VI Demolition grants are awarded on a first-come, first-served basis, HUD reserves the right either to award funds to Priority Group 1 applications as soon as they are determined to be eligible for funding, or announce all awards after the HOPE VI Demolition grant application deadline date has passed. HUD will notify ineligible applicants of their ineligibility immediately after that determination has been made. HUD will provide written notification to all HOPE VI applicants, whether or not they have been selected for funding.

(B) Environmental Review. HUD notification that you have been selected to receive a HOPE VI Demolition grant constitutes only preliminary approval. Grant funds may not be released until the responsible entity completes an environmental review and you submit and obtain HUD approval of a request for release of funds and the responsible entity's environmental certification in accordance with 24 CFR part 58 and Section XIV of this NOFA (or HUD has completed an environmental review under 24 CFR part 50 where HUD has determined to do the environmental review).

(C) Demolition Grant Agreement. When you are selected to receive a Demolition grant, HUD will send you a HOPE VI Demolition Grant Agreement, which constitutes the contract between you and HUD to carry out and fund public housing demolition activities. Both you and HUD will sign the cover sheet of the Grant Agreement. You must sign the Grant Agreement within 90 days of receiving it. Failure to sign the Grant Agreement within 90 days may cause the Department to withdraw its award of funds. It is effective on the date of HUD's signature. The Grant Agreement differs from year to year. The Grant Agreement from FY 2001 can be found on the HOPE VI Web site www.hud.gov/hopevi.

XIII. Post Award Requirements

(A) Timeliness of Demolition. Grantees must proceed within a reasonable timeframe, as indicated below. In determining reasonableness of such timeframe, HUD will take into consideration those delays caused by factors beyond your control.

(1) You must complete the proposed demolition within a reasonable timeframe, which is two years from the date of Grant Agreement execution. HUD will take into consideration delays caused by factors beyond your control when enforcing this requirement or as otherwise approved by HUD to accommodate reasonable relocation and demolition schedules.

(2) In accordance with section 24(i) of the 1937 Act, if you do not proceed within a reasonable timeframe, in the determination of HUD, HUD shall withdraw any grant amounts that you have not obligated. HUD shall redistribute any withdrawn amounts to one or more other applicants eligible for HOPE VI assistance or to one or more other entities capable of proceeding expeditiously in the same locality in carrying out the activities of the original Grantee.

(B) Conflict of Interest.

(1) Prohibition. In addition to the conflict of interest requirements in 24 CFR part 85, no person who is an employee, agent, consultant, officer, or elected or appointed official of a Grantee and who exercises or has exercised any functions or responsibilities with respect to activities assisted under a HOPE VI Grant, or who is in a position to participate in a decision-making process or gain inside information with regard to such activities, may obtain a financial interest or benefit from the activity, or have an interest in any contract, subcontract, or agreement with respect thereto, or the proceeds thereunder, either for himself or herself or for those with whom he or she has family or business ties, during his or her tenure or for one year thereafter.

(2) HUD-Approved Exception.

(a) Standard. HUD may grant an exception to the prohibition in Section (1) above on a case-by-case basis when it determines that such an exception will serve to further the purposes of HOPE VI and its effective and efficient administration.

(b) Procedure. HUD will consider granting an exception only after the Grantee has provided a disclosure of the nature of the conflict, accompanied by:

(i) An assurance that there has been public disclosure of the conflict;

(ii) A description of how the public disclosure was made; and

(iii) An opinion of the Grantee's attorney that the interest for which the exception is sought does not violate state or local laws.

(c) Consideration of Relevant Factors. In determining whether to grant a requested exception under Section (b) above, HUD will consider the cumulative effect of the following factors, where applicable:

(i) Whether the exception would provide a significant cost benefit or an essential degree of expertise to the Demolition Activities that would otherwise not be available;

(ii) Whether an opportunity was provided for open competitive bidding or negotiation;

(iii) Whether the person affected is a member of a group or class intended to be the beneficiaries of the Demolition Plan and the exception will permit such person to receive generally the same interests or benefits as are being made available or provided to the group or class;

(iv) Whether the affected person has withdrawn from his or her functions or responsibilities, or the decision making process, with respect to the specific activity in question;

(v) Whether the interest or benefit was present before the affected person was in a position as described in Section (iii) above;

(vi) Whether undue hardship will result either to the Grantee or the person affected when weighed against the public interest served by avoiding the prohibited conflict; and

(vii) Any other relevant considerations.

(3) Conducting Business in Accordance with Core Values and Ethical Standards. Entities subject to 24 CFR parts 84 and 85 are required to develop and maintain a written code of conduct (see sections 84.42 and 85.36(b)(3)). Consistent with regulations governing specific programs, your code of conduct must: prohibit real and apparent conflicts of interest that may arise among officers, employees, or agents; prohibit the solicitation and acceptance of gifts or gratuities by your officers, employees and agents for their personal benefit in excess of minimal value; and, outline administrative and disciplinary actions available to remedy violations of such standards. If awarded assistance under this NOFA, you will be required, prior to entering into a grant agreement with HUD, to submit a copy of your code of conduct and describe the methods you will use to ensure that all officers, employees and agents of your organization are aware of your code of conduct.

(C) OMB Circulars and Administrative Requirements. You must comply with the following administrative requirements related to the expenditure of federal funds. OMB Circulars can be found at http://www.whitehouse.gov/omb/circulars/index.html. Copies of the OMB Circulars may be obtained from EOP Publications, Room 2200, New Executive Office Building, Washington, DC 10503, telephone (202) 395-7332 (this is not a toll free number). The Code of Federal Regulations can be found at http://www.access.gpo.gov/nara/cfr/index.html.

(1) Administrative requirements applicable to PHAs are:

(a) 24 CFR part 85 (Administrative Requirements for Grants and Cooperative Agreements to State, Local and Federally Recognized Indian Tribal Governments), as modified by 24 CFR 941 or successor part, subpart F, relating to the procurement of partners in mixed finance developments.

(b) OMB Circular A-87 (Cost Principles for State, Local and Indian Tribal Governments);

(c) 24 CFR 85.26 (audit requirements).

(2) Administrative requirements applicable to non-profit organizations are:

(a) 24 CFR part 84 (Grants and Agreements with Institutions of Higher Education, Hospitals, and other Non-Profit Organizations);

(b) OMB Circular A-122 (Cost Principles for Non-Profit Organizations):

(c) 24 CFR 84.26 (audit requirements).

(3) Administrative requirements applicable to for profit organizations are:

(a) 24 CFR part 84 (Grants and Agreements with Institutions of Higher Education, Hospitals, and other Non-Profit Organizations);

(b) 48 CFR part 31 (contract cost principles and procedures);

(c) 24 CFR 84.26 (audit requirements).

(D) Labor Standards. HUD-determined wage rates apply to demolition and activities associated with filling in the site and establishing a lawn.

(1) Davis-Bacon wage rates apply to demolition followed by construction on the site.

(2) HUD-determined wage rates apply to demolition and activities associated with filling in the site and establishing a lawn.

(3) Under section 12(b) of the 1937 Act, wage rate requirements do not apply to individuals who:

(a) Perform services for which they volunteered;

(b) Do not receive compensation for those services or are paid expenses, reasonable benefits, or a nominal fee for the services; and

(c) Are not otherwise employed in the work involved (24 CFR part 70).

(4) If other federal funds are used in connection with your HOPE VI activities, labor standards requirements apply to the extent required by the other federal programs on portions of the project that are not subject to Davis-Bacon rates under the 1937 Act.

(E) Lead-Based Paint. You must comply with lead-based paint evaluation and reduction requirements as provided for under the Lead-Based Paint Poisoning Prevention Act (42 U.S.C. 4821, et seq.). You must also comply with regulations at 24 CFR part 35, 24 CFR 965.701, and 24 CFR 968.110(k), as they may be amended or revised from time to time. Unless otherwise provided, you will be responsible for lead-based paint evaluation and reduction activities. The National Lead Information Hotline is 1-800-424-5323.

(F) Internet Access. You must have access to the Internet and provide HUD with email addresses of key staff and contact people.

(G) Procurement of Recovered Materials. State agencies and agencies of a political subdivision of a state that are using assistance under this NOFA for procurement, and any person contracting with such an agency with respect to work performed under an assisted contract, must comply with the requirements of Section 6002 of the Solid Waste Disposal Act, as amended by the Resource Conservation and Recovery Act. In accordance with Section 6002, these agencies and persons must procure items designated in guidelines of the Environmental Protection Agency at 40 CFR part 247 that contain the highest percentage of recovered materials practicable, consistent with maintaining a satisfactory level of competition, where the purchase price of the item exceeds $10,000 or the quantity acquired in the preceding fiscal year exceeded $10,000; must procure solid waste management services in a manner that maximizes energy and resource recovery; and must have established an affirmative procurement program for procurement of recovered materials identified in the EPA guidelines.

XIV. Environmental Review

(A) If you are selected for funding and an environmental review has not been conducted on the targeted site, the responsible entity, as defined in 24 CFR 58.2(a)(7), must assume the environmental review responsibilities for projects being funded by HOPE VI. If you object to the responsible entity conducting the environmental review, on the basis of performance, timing or compatibility of objectives, HUD will review the facts and determine who will perform the environmental review. At any time, HUD may reject the use of a responsible entity to conduct the environmental review in a particular case on the basis of performance, timing or compatibility of objectives, or in accordance with 24 CFR 58.77(d)(1). If a responsible entity objects to performing an environmental review, or if HUD determines that the responsible entity should not perform the environmental review, HUD may designate another responsible entity to conduct the review or may itself conduct the environmental review in accordance with the provisions of 24 CFR part 50. You must provide any documentation to the responsible entity (or HUD, where applicable) that is needed to perform the environmental review.

(B) If you are selected for funding, you must have a Phase I environmental site assessment completed in accordance with the American Society for Testing and Material (ASTM) Standards E 1527-97, as amended, for each affected site. A Phase I assessment is required whether the environmental review is completed under 24 CFR part 50 or 24 CFR part 58. The results of the Phase I assessment must be included in the documents that must be provided to the responsible entity (or HUD) for the environmental review. If the Phase I assessment recognizes environmental concerns or if the results are inconclusive, a Phase II environmental site assessment will be required.

(C) You may not undertake any actions with respect to the project that are choice-limiting or could have environmentally adverse effects, including demolishing, acquiring, rehabilitating, converting, leasing, repairing, or constructing property proposed to be assisted under this NOFA, and you may not commit or expend HUD or local funds for these activities, until HUD has approved a Request for Release of Funds following a responsible entity's environmental review under 24 CFR part 58, or until HUD has completed an environmental review and given approval for the action under 24 CFR part 50. In addition, you must carry out any mitigating/remedial measures required by the Responsible Entity (or HUD). If a remediation plan, where required, is not approved by HUD and a fully-funded contract with a qualified contractor licensed to perform the required type of remediation is not executed, HUD reserves the right to determine that the grant is in default.

(D) The costs of environmental reviews and hazard remediation are eligible costs under the HOPE VI Program.

(E) HUD's Environmental web site is located at http://hudstage.hud.gov/offices/cpd/energyenviron/environment/index.cfm

XV. Findings and Certifications

(A) Catalog of Federal Domestic Assistance Number. The Catalog of Federal Assistance (CFDA) Number for HOPE VI is 14.866. The CFDA is a government-wide compendium of federal programs, projects, services, and activities that provide assistance or benefits to the public.

(B) Environmental Impact. A Finding of No Significant Impact with respect to the environment has been made in accordance with HUD regulations at 24 CFR part 50 that implement section 102(2)(C) of the National Environmental Policy Act of 1969 (42 U.S.C. 4332). The Finding of No Significant Impact is available for public inspection during regular business hours in the Office of the General Counsel, Regulations Division, Room 10276, U.S. Department of Housing and Urban Development, 451 Seventh Street, SW., Washington, DC 20410-0500.

(C) Federalism. Executive Order 13132 prohibits, to the extent practicable and permitted by law, an agency from promulgating policies that have federalism implications and either impose substantial direct compliance costs on state and local governments and are not required by statute, or preempt state law, unless the relevant requirements of section 6 of the Executive Order are met. This NOFA does not have federalism implications and does not impose substantial direct compliance costs on state and local governments or preempt state law within the meaning of the Executive Order.

(D) Intergovernmental Review of Federal Programs. Executive Order 12372 was issued to foster intergovernmental partnership and strengthen federalism by relying on state and local processes for the coordination and review of federal financial assistance and direct federal development. The Order allows each state to designate an entity to perform a state review function. The official listing of State Points of Contact (SPOC) for this review process can be found at: http://www.whitehouse.gov/omb/grants/spoc.html. States that are not listed on the Web site have chosen not to participate in the intergovernmental review process, and therefore do not have a SPOC. If you are located within one of those states, you may send applications directly to HUD. If your state has a SPOC, you should contact them to see if they are interested in reviewing your application prior to submission to HUD. Please make sure that you allow ample time for this review process when developing and submitting your application.

(E) Prohibition Against Lobbying Activities. You are subject to the provisions of section 319 of the Department of Interior and Related Agencies Appropriation Act for Fiscal Year 1991 (31 U.S.C. 1352) (the Byrd Amendment), which prohibits recipients of federal contracts, grants, or loans from using appropriated funds for lobbying the executive or legislative branches of the federal government in connection with a specific contract, grant, or loan. You are required to certify, using the HUD-424 series form, that you will not, and have not, used appropriated funds for any prohibited lobbying activities. As necessary, you must disclose, using Standard Form LLL, “Disclosure of Lobbying Activities,” any funds, other than federally appropriated funds, that will be or have been used to influence federal employees, Members of Congress, and congressional staff regarding specific grants or contracts. The Lobbying Disclosure Act of 1995 (Public Law 104-65, approved December 19, 1995), repealed section 112 of the Housing and Urban Development Reform Act of 1989 (Public Law 101-235, approved December 15, 1989) (HUD Reform Act), and requires all persons and entities who lobby covered executive or legislative branch officials to register with the Secretary of the Senate and the Clerk of the House of Representatives and file reports concerning their lobbying activities.

(F) Documentation and Public Access Requirements. Section 102 of the HUD Reform Act (42 U.S.C. 3545) and the regulations codified in 24 CFR part 4, subpart A, contain a number of provisions that are designed to ensure greater accountability and integrity in the provision of certain types of assistance administered by HUD. On January 14, 1992, HUD published a notice in the Federal Register that also provides information on the implementation of section 102 (57 FR 1942). The documentation, public access, and disclosure requirements of section 102 apply to assistance awarded under this NOFA as follows:

(1) Documentation and public access requirements. HUD will ensure that documentation and other information regarding each application submitted pursuant to this NOFA are sufficient to indicate the basis upon which assistance was provided or denied. This material, including any letters of support, will be made available for public inspection for a 5-year period beginning not less than 30 days after the award of the assistance. Material will be made available in accordance with the Freedom of Information Act (5 U.S.C. 552) (FOIA) and HUD's implementing regulations in 24 CFR part 15.

(2) Disclosures. HUD will make available for public inspection all HOPE VI grant applications for five years beginning not less than 30 days following the grant award. Applications will be made available in accordance with FOIA and HUD's implementing regulations at 24 CFR part 15.

(3) Publication of Recipients of HUD Funding. HUD's regulations at 24 CFR 4.7 provide that HUD will publish a notice in the Federal Register to notify the public of all decisions made by the Department to provide:

(a) Assistance subject to section 102(a) of the HUD Reform Act; and/or

(b) Assistance that is provided through grants or cooperative agreements on a discretionary (non-formula, non-demand) basis, but that is not provided on the basis of a competition.

(G) Section 103 HUD Reform Act. HUD's regulations implementing section 103 of the HUD Reform Act (42 U.S.C. 3537a), codified in 24 CFR part 4, subpart B, apply to this funding competition. The regulations continue to apply until the announcement of the selection of successful applicants. HUD employees involved in the review of applications and in the making of funding decisions are limited by the regulations from providing advance information to any person (other than an authorized employee of HUD) concerning funding decisions, or from otherwise giving any applicant an unfair competitive advantage. Persons who apply for assistance in this competition should confine their inquiries to the subject areas permitted under 24 CFR part 4. Applicants or HUD employees who have ethics related questions should contact the HUD Ethics Law Division at (202) 708-3815. (This is not a toll-free number.) HUD employees who have specific program questions should contact the appropriate field office counsel, or Headquarters counsel for the program to which the question pertains.

(H) Paperwork Reduction Act Statement. The information collection requirements contained in this notice have been approved by the Office of Management and Budget in accordance with the Paperwork Reduction Act of 1995 (44 U.S.C. Chapter 35), and assigned OMB control number 2577-0208. An agency may not conduct or sponsor, and a person is not required to respond to, a collection of information unless the collection displays a valid control number.

Dated: March 28, 2003.
Michael M. Liu,
Assistant Secretary for Public and Indian Housing.

BILLING CODE 4210-33-P

[FR Doc. 03-8174 Filed 4-3-03; 8:45 am]

BILLING CODE 4210-33-C